FEDERAL TRADE COMMISSION

[File No. 161 0230]

Oregon Lithoprint, Inc.; Analysis To Aid Public Comment

AGENCY: Federal Trade Commission.

ACTION: Proposed consent agreement; correction.

SUMMARY: The Federal Trade Commission published a document in the Federal Register of March 15, 2018, concerning the proposed consent agreement in Oregon Lithoprint, Inc. The document contained the incorrect date by which comments must be received. This document corrects the date by which comments must be received; they must be received on or before April 10, 2018.

FOR FURTHER INFORMATION CONTACT: Michael Turner (202-326-3619), Bureau of Competition, 600 Pennsylvania Avenue NW, Washington, DC 20580.

Correction

In the Federal Register of March 15, 2018, in FR Doc. 83-51, on page 11529, in the third column, correct the DATES caption to read:

DATES: Comments must be received on or before April 10, 2018.

Dated: March 16, 2018.
Donald S. Clark,
Secretary.

[FR Doc. 2018-05800 Filed 3-21-18; 8:45 am]

BILLING CODE 6750-01-P